DEPARTMENT OF TRANSPORTATION

Federal Aviation Administration

[Docket No. FAA-2018-0939; Notice of Availability Docket No. 18-ANE-6]

Notice of Availability of Categorical Exclusion and Record of Decision (CATEX/ROD) for Boston Harbor Seaplane Operation, MA

AGENCY: Federal Aviation Administration, (FAA), DOT.

ACTION: Notice of availability.

SUMMARY: The FAA, Eastern Service Center is issuing this notice to advise the public of the availability of the Categorical Exclusion/Record of Decision (CATEX/ROD) for the Boston Harbor Seaplane Operation. The FAA reviewed the action and determined it to be categorically excluded from further environmental review.

FOR FURTHER INFORMATION CONTACT: Mr. Andrew Pieroni, Federal Aviation Administration, Operations Support Group, Eastern Service Center, 1701 Columbia Avenue, College Park, Georgia 30337, (404) 305-5586.

SUPPLEMENTARY INFORMATION: The Federal Aviation Administration (FAA) proposes to implement a Letter of Agreement (LOA) between Boston Airport Traffic Control Tower (BOS ATCT), Boston Consolidated Terminal Radar Approach Control (A90) and Hyannis Air Service Inc., (OBA Cape Air [KAP]) for seaplane operations in the Boston, Massachusetts Inner Harbor. This proposed LOA would ensure standardized, safe and de-conflicted seaplane operations in the Boston, Massachusetts Inner Harbor from BOS ATCT operations and allows for efficient airspace operations in the General Edward Lawrence Logan International Airport (BOS) Class B airspace. The proposed VFR handling of seaplane arrivals and departures will enhance safety and minimize delays for aircraft at BOS. The FAA reviewed the action and determined it to be categorically excluded from further environmental review according to FAA Order 1050.1F, Environmental Impacts: Policies and Procedures. The applicable categorical exclusion is § 5-6.S(i.).

Issued in College Park, Georgia, on October 24, 2018.
Ryan W. Almasy,
Manager, Operations Support Group, Eastern Service Center, Air Traffic Organization.

[FR Doc. 2018-24056 Filed 11-1-18; 8:45 am]

BILLING CODE 4910-13-P